DEPARTMENT OF JUSTICE

[OMB Number 1121-0100]

Agency Information Collection Activities; Proposed eCollection eComments Requested; Reinstatement of a Previously Approved Collection Census of Jails 2024-26; Correction

ACTION: Notice; correction.

SUMMARY: The Department of Justice published a document in the Federal Register of February 26, 2024, concerning request for comments on an information collection. The document contained incorrect dates.

FOR FURTHER INFORMATION CONTACT: Zhen Zheng, (202) 598-9955.

SUPPLEMENTARY INFORMATION:

Correction

In the Federal Register of February 26, 2024, in FR Doc. 2024-03768, on page 1, in the third paragraph column, correct the Dates caption to read:

DATES: Comments are encouraged and will be accepted for 30 days until March 27, 2024.

Dated: February 26, 2024.
Darwin T. Arceo,
DOJ Clearance Officer.

[FR Doc. 2024-04276 Filed 2-28-24; 8:45 am]

BILLING CODE 4410-CW-P